POSTAL SERVICE

39 CFR Part 111

Mobile Commerce and Personalization Promotion

AGENCY: Postal Service™.

ACTION: Final rule.

SUMMARY: The Postal Service will revise the Mailing Standards of the United States Postal Service, Domestic Mail Manual (DMM®) 709.3 to add a new temporary promotion in the summer of 2012 for Presorted and automation First-Class Mail® cards, letters and flats, and Standard Mail® letters and flats bearing two-dimensional mobile barcodes or equivalent print technology.

DATES: Effective Date: July 1, 2012.

FOR FURTHER INFORMATION CONTACT: Krista Becker at 202-268-7345, Bill Chatfield at 202-268-7278, or mobilebarcode@usps.gov.

SUPPLEMENTARY INFORMATION: On February 21, 2012, the Postal Service filed a notice (R2012-6) with the Postal Regulatory Commission to temporarily reduce the prices for certain types of First-Class Mail and Standard Mail letters items that contain, in or on the mailpiece, a transactional two-dimensional barcode or similar print technology such as watermarks or tags (collectively “Mobile Barcode” or “Mobile Barcodes”) readable by consumer mobile devices. In recognition of the success of the mobile barcode promotion in the summer of 2011, the Postal Service offers a revised promotion from July 1, 2012, through August 31, 2012.

In this final rule, the Postal Service provides a description of the conditions for eligibility for the price reduction for the mobile commerce and personalization promotion, and the revised mailing standards to implement the promotion.

To be eligible, each Presorted and automation mailpiece in the mailing that is listed on the postage statement for that mailing must have a Mobile Barcode on the outside of each piece or on the contents within each piece. When scanned, the Mobile Barcode must lead the recipient of the mailpiece to either: a Web page that allows the recipient to purchase a product or service, or a personalized URL that leads to a Web page whose Web address and content are unique to the mailpiece recipient. In both cases, the Web site must remain mobile-optimized. Mobile Barcodes that direct consumers to Web pages that allow payment for prior or future purchases, or encourage enrollment in online bill payment or paperless statement services are not eligible for the discount. Mailpieces with Mobile Barcodes that convey postage information, destination, sender, or a machinable serial number for security also are not eligible for the discount.

The promotion provides an upfront price reduction of 2 percent of the eligible postage for qualifying mailpieces containing Mobile Barcodes as described above. Qualifying mailings are Presorted and automation mailings of First-Class Mail cards, letters, and flats, and Standard Mail (including Nonprofit) letters and flats. Commingled, co-mailed and combined mailings are allowed, but a separate postage statement is required for mailpieces with Mobile Barcodes.

Eligible mailings must be accompanied by electronic documentation. Mailings that are prepared by an entity other than the mail owner must indicate the identity of the owner in the electronic documentation. The electronic documentation must identify the mail owner and mail preparer in the “By/For” fields for all mailings, either by Customer Registration ID (CRID), Mailer ID (MID) or other account type that is assigned by USPS®. Mailings of automation letters or flats must have Intelligent Mail® barcodes. Mailpieces with POSTNET™ barcodes will not be eligible for the price reduction.

The price reduction will be taken off the postage amount due at the time of mailing, and there will be no refunds or postage credit provided under this promotion. The promotion discount does not apply to single-piece First-Class Mail pieces including residual single-piece First-Class Mail pieces on a postage statement for Presorted and automation mailings.

Postage Payment Methods

Postage payment methods will be restricted to permit imprint, metered postage, or precancelled stamps. Pieces with metered postage must bear an exact amount of postage as stipulated by the class and shape of mail. Affixed postage values for metered mailings will be as follows:

First-Class Mail postcards | $0.20
First-Class Mail automation and (PRSTD) machinable letters | 0.25
First-Class Mail nonmachinable letters | 0.45
First-Class Mail automation and Presorted flats | 0.35
STD Mail Regular letters | 0.12
STD Mail Regular flats | 0.13
STD Nonprofit letters | 0.05
STD Nonprofit flats | 0.06

Mailings with postage paid by metered or precancelled stamp postage will have the percentage discount deducted from the additional postage due, except for Value Added Refund mailings, which may include the amount of the discount with the amount to be refunded.

The mobile barcode promotion discount cannot be combined with other incentives, with the exception of the full-service Intelligent Mail barcode discount.

Promotion Dates and More Information

To participate in the promotion, customers must register on the Business Customer Gateway at www.gateway.usps.com and specify which permits and CRIDs will participate in the promotion. Registration opens May 1, 2012, and must be completed at least 24 hours prior to the first mailing date. The Postal Service will implement the promotion and temporary price reduction for mailings made on July 1, 2012, through August 31, 2012. Plant-verified drop shipment (PVDS) mailings accepted no later than August 31, 2012, may be entered at destinations through September 15, 2012. Program requirements, including updated FAQs, are available on the RIBBS Web site at https://ribbs.usps.gov/index.cfm?page=mobilebarcode or by email to mobilebarcode@usps.gov.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM):

Mailing Standards of the United States Postal Service, Domestic Mail Manual (DMM):

* * * * *

700 Special Standards

* * * * *

709 Experimental and Temporary Classifications

* * * * *

[Revise the title of 3.0 as follows:]

3.0 Mobile Commerce and Personalization Promotion

3.1 Program Description and Scope

[Revise 3.1 by incorporating the text of current items a and b into the body of 3.1 and revising the text as follows:]

The mobile commerce and personalization promotion provides a two percent discount for pieces mailed at Presorted and automation prices in mailings of First-Class Mail cards, letters, and flats, and Standard Mail (including Nonprofit) letters and flats that include a transactional two-dimensional mobile barcode when the mailpieces meet all the conditions in these standards. Images such as watermarks and tags that, when scanned, direct consumers to mobile-optimized sites under conditions in 3.0 are also eligible. Automation pieces must bear Intelligent Mail barcodes; pieces with POSTNET barcodes are not eligible for this promotion. The promotion is valid for mailings entered from July 1, 2012 through August 31, 2012. Plant-verified drop shipment (PVDS) mailings meeting all relevant standards may be accepted at origin as late as August 31, 2012 if they are entered no later than September 15, 2012 at the destination.

3.2 Eligibility Standards

[Revise 3.2 as follows:]

To be eligible for the two percent discount, customers must register on Business Customer Gateway at gateway.usps.com, and specify which permits and CRIDs will participate in the promotion. Registration opens May 1, 2012, and must be completed at least 24 hours prior to the first mailing date. Mailpieces must be mailed under the following conditions:

a. A two-dimensional mobile barcode or similar image must be on each mailpiece, either on the outside or printed on the contents of the piece. Brief instructions or directional copy must be printed near the barcode to instruct the recipient to scan the barcode. One-dimensional barcodes do not qualify.

b. The mobile barcode must be readable by a mobile device and must lead to a mobile-optimized Web site. The barcode must be relevant to the contents of the mailpiece. Scanning the barcode must lead the consumer to a Web page that allows the recipient a good or service on the mobile device, or to a personalized URL that leads to a Web page unique to an individual recipient. In either situation, the Web site must remain mobile-optimized. Barcodes with links that direct consumers to sites that allow payment for prior or future purchases or that encourage enrollment in online bill payment or paperless statement services are not eligible for the discount. Mailpieces with mobile barcodes that convey postage information, destination, sender, or a machinable serial number for security also are not eligible for the discount.

c. The mailpieces with mobile barcodes must be one of the following:

1. Presorted or automation First-Class Mail cards, letters, or flats. Automation pieces must bear Intelligent Mail barcodes.

2. Standard Mail (including Nonprofit) letters or flats.

d. Postage must be paid by permit imprint or by affixing metered postage or a precanceled stamp to each piece of mail; the postage statement and mailing documentation must be submitted electronically. Mailings that are prepared by an entity other than the mail owner must indicate the owner's identity in the electronic documentation (“eDoc”). The eDoc must identify the mail owner and mail preparer in the By/For fields, either by Customer Registration ID (CRID), Mailer ID (MID) or other account type assigned by the USPS. All Presorted and automation pieces declared on a postage statement must contain a mobile barcode that qualifies for the discount.

e. Mailers must provide the USPS acceptance unit with an unaddressed sample of the mailpiece that contains a mobile barcode. If mobile personalization is used, at least two samples must be submitted, demonstrating that the web addresses are unique to each addressee. Mailers must also retain, until October 31, 2012, a sample of each mailpiece claiming a discount.

f. Other than a full-service Intelligent Mail discount (see 705.24), no other incentives apply for mailpieces claiming a discount under this promotion.

g. Participants must agree to participate in a survey conducted during or after the promotional period.

h. Federal government official mailings under OMAS are not eligible for this promotion.

3.3 Discount

[Revise the first sentence of 3.3 and add new second and third sentences as follows:]

Mailers must claim the two percent postage discount on the postage statement at the time the statement is electronically submitted. Mailings with postage affixed will deduct the discount amount from the additional postage due, except that mail service providers authorized to submit Value Added Refund (VAR) mailings may include the refund for the incentive discount in the VAR amount. Pieces with metered postage must bear an exact amount of postage as stipulated by the class and shape of mail. Affixed postage values for metered mailings may be found in the Federal Register notice available at pe.usps.com. * * *

* * * * *

We will publish an appropriate amendment to 39 CFR part 111 to reflect these changes.

Stanley F. Mires,
Attorney, Legal Policy and Legislative Advice.

[FR Doc. 2012-6086 Filed 3-15-12; 8:45 am]

BILLING CODE 7710-12-P